CONSUMER PRODUCT SAFETY COMMISSION

[Docket No. CPSC-2012-0058]

Submission for OMB Review; Comment Request—Safety Standard for Walk-Behind Power Lawn Mowers

AGENCY: Consumer Product Safety Commission.

ACTION: Notice.

SUMMARY: Pursuant to the Paperwork Reduction Act of 1995 (44 U.S.C. Chapter 35), the Consumer Product Safety Commission (Commission or CPSC) announces that it has submitted to the Office of Management and Budget (OMB) a request for extension of approval of a collection of information associated with the Commission's safety standard for walk-behind power lawn mowers.

DATES: Written comments on this request for extension of approval of information collection requirements should be submitted by January 25, 2013.

ADDRESSES: To ensure that comments on the information collection are received, the OMB recommends that written comments be faxed to the Office of Information and Regulatory Affairs, OMB, Attn: CPSC Desk Officer, FAX: 202-395-6974, or emailed to oira_submission@omb.eop.gov. All comments should be identified by Docket No. CPSC-2012-0058. In addition, written comments also should be submitted at http://www.regulations.gov, under Docket No. CPSC-2012-0058, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, U.S. Consumer Product Safety Commission, 4330 East West Highway, Bethesda, MD 20814; telephone: 301-504-7923 or by email to rsquibb@cpsc.gov.

SUPPLEMENTARY INFORMATION: In the Federal Register of October 4, 2012, and October 17, 2012 (77 FR 60683, 77 FR 63800), the Consumer Product Safety Commission published a notice in accordance with provisions of the Paperwork Reduction Act of 1995 (44 U.S.C. Chapter 35) to announce the agency's intention to seek extension of approval of the collection of information required in the Safety Standard for Walk-Behind Power Lawn Mowers (16 CFR Part 1205). Three comments were received in response to that notice. Two commenters questioned the need to collect any information. One commenter stated that lawn mowers should not be imported from China and Korea. This comment is outside the scope of the proposed collection of information which concerns only issues related to the collection of information. The Safety Standard for Walk-Behind Power Lawn Mowers establishes performance and labeling requirements for mowers to reduce unreasonable risks of injury resulting from accidental contact with the moving blades of mowers. Certification regulations implementing the standard require manufacturers, importers, and private labelers of mowers subject to the standard to test mowers for compliance with the standard and to maintain records of that testing. The records of testing and other information required by the certification regulations allow the Commission to determine that walk-behind power mowers subject to the standard comply with its requirements. This information also enables the Commission to obtain corrective actions if mowers fail to comply with the standard in a manner that creates a substantial risk of injury to the public.

We estimate that about 34 firms are subject to the testing and recordkeeping requirements of the certification regulations. We estimate further that the annual testing and recordkeeping burden imposed by the regulations on each of these firms on average is approximately 390 hours. Thus, the total annual burden imposed by the certification regulations on all manufacturers and importers of walk-behind power mowers is about 13,260 hours (34 firms x 390 hours).

In addition, manufacturers are expected to spend an additional hour, per production day, to collect the information for labeling. Accordingly, an additional 130 hours per firm are added to the total burden. For the 34 firms involved, the total estimated burden related to labeling is 4,420 hours. Aggregate annual burden hours related to testing, recordkeeping, and labeling are estimated to be 520 hours per firm and 17,680 hours for the industry.

The hourly wage for the time required to perform the required testing and recordkeeping is approximately $61.75 (Bureau of Labor Statistics: total compensation for management, professional, and related workers in goods-producing private industries: http://www.bls.gov/ncs), and the hourly wage for the time required to maintain the labeling requirements is approximately $27.64 (Bureau of Labor Statistics, total compensation for all sales and office workers in goods-producing, private industries: http://www.bls.gov/ncs). The annualized total cost to the industry for annual testing and recordkeeping is estimated to be $818,805, based on 13,260 hours x $61.75. The annualized cost burden related to labeling is estimated to be $122,169, based on 4,420 hours x $27.64. Aggregate burden costs related to testing, recordkeeping, and labeling are estimated to be $940,972 for the industry.

Dated: December 20, 2012.
Todd A. Stevenson,
Secretary, Consumer Product Safety Commission.

[FR Doc. 2012-30992 Filed 12-21-12; 4:15 pm]

BILLING CODE 6355-01-P